DEPARTMENT OF HEALTH AND HUMAN SERVICES

Centers for Disease Control and Prevention

[30Day-24-1316]

Agency Forms Undergoing Paperwork Reduction Act Review

In accordance with the Paperwork Reduction Act of 1995, the Centers for Disease Control and Prevention (CDC) has submitted the information collection request titled “Aerosols from cyanobacterial blooms: Exposures and Health Effects in a Highly Exposed Population” to the Office of Management and Budget (OMB) for review and approval. CDC previously published a “Proposed Data Collection Submitted for Public Comment and Recommendations” notice on October 16, 2023 to obtain comments from the public and affected agencies. CDC received one comment related to this 30-day notice.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Aerosols from Cyanobacterial Blooms: Exposures and Health Effects in a Highly Exposed Population (OMB Control No. 0920-1316, Exp. 1/31/2024)—Extension—National Center for Environmental Health (NCEH), Centers for Disease Control and Prevention (CDC).

Background and Brief Description

The National Center for Environmental Health (NCEH), Centers for Disease Control and Prevention (CDC), requests a three-year Paperwork Reduction Act (PRA) clearance for a renewal of the information collection request titled Aerosols from Cyanobacterial Blooms: Exposures and Health Effects in a Highly Exposed Population. NCEH is authorized to conduct research under the Public Health Service Act, Section 301, “Research and investigation,” (42 U.S.C. 241).

Toxins produced by blooms of algae, cyanobacteria, and seaweed (herein called harmful algal blooms or HABS) are among the most potent natural chemicals. Exposure to these toxins can induce a wide variety of reported and documented effects in people and animals. Published studies demonstrate that people and animals are at risk for health effects from exposure to HABS, whether through eating contaminated food, drinking contaminated water, or inhaling contaminated aerosols. Although there is substantial published work describing the public health impacts from these blooms, unanswered questions remain, including quantitative assessments of exposure and characterization of the clinical presentations of illnesses associated with HAB exposures.

HAB events and associated environmental impacts (e.g., geographic and temporal extent, composition, toxin production) are difficult, if not impossible to predict and track. Specifically, for the previously approved project, we were not able to align the physical occurrence of a specific type of a HAB of significant magnitude with government approvals and resource commitments. Therefore, we request a three-year Extension of the original Information Collection Request (ICR).

CDC requests OMB approval for an estimated 1,273 annual burden hours. There is no cost to respondents other than their time.

Estimated Annualized Burden Hours
Type of respondents | Form name | Number of respondents | Number of responses per respondent | Average burden per response (in hours)
Interested community members | Screening/baseline Survey | 84 | 1 | 15/60
Eligible study respondents | Symptom Survey | 67 | 10 | 15/60
Eligible study respondents | Record of Time Spent Outdoors | 67 | 5 | 10/60
Eligible study respondents | Provide blood specimen | 67 | 3 | 15/60
Eligible study respondents | Provide specimens (urine, nasal swabs, lung function test) | 67 | 10 | 1
Eligible study respondents | Be outfitted with personal air sampler | 67 | 5 | 45/60
Eligble study respondents | Provide fish (if respondent went fishing and caught fish) | 67 | 5 | 10/60

Jeffrey M. Zirger,
Lead, Information Collection Review Office, Office of Public Health Ethics and Regulations, Office of Science, Centers for Disease Control and Prevention.

[FR Doc. 2024-00716 Filed 1-16-24; 8:45 am]

BILLING CODE 4163-18-P